DEPARTMENT OF TRANSPORTATION

Federal Aviation Administration

14 CFR Part 39

[Docket No. 2001-SW-23-AD; Amendment 39-12524; AD 2001-24-08]

RIN 2120-AA64

Airworthiness Directives; Eurocopter France Model EC 120 Helicopters

AGENCY: Federal Aviation Administration, DOT.

ACTION: Final rule.

SUMMARY: This amendment supersedes an existing airworthiness directive (AD) that applies to Eurocopter France (ECF) Model EC120B helicopters and currently requires adjusting the clearance of the cabin sliding door if necessary. This amendment requires adding an end stop to the front rail and modifying the rear stop of the middle rail to increase its adjustment range for certain cabin sliding doors. This amendment is prompted by an in-flight loss of a cabin sliding door, which had been locked in the open position. The actions specified by this AD are intended to prevent in-flight loss of a cabin sliding door, impact with the horizontal stabilizer or fenestron tail rotor, and subsequent loss of control of the helicopter.

DATES: Effective January 7, 2002.

The incorporation by reference of certain publications listed in the regulations is approved by the Director of the Federal Register as of January 7, 2002.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: A proposal to amend 14 CFR part 39 by superseding AD 2000-17-07, Amendment 39-11881 (65 FR 52012, August 28, 2000), which applies to ECF Model EC120B helicopters, was published in the Federal Register on August 23, 2001 (66 FR 44319). That action proposed to supersede AD 2000-17-07 to require, within 90 days or before the next flight with a door open, whichever occurs first, adding a stop to the front rail and modifying the rear stop of the middle rail of the cabin sliding doors.

Interested persons have been afforded an opportunity to participate in the making of this amendment. No comments were received on the proposal or the FAA's determination of the cost to the public. The FAA has determined that air safety and the public interest require the adoption of the rule as proposed.

The FAA estimates that 24 helicopters of U.S. registry will be affected by this AD, that it will take approximately 2 work hours per helicopter to add and modify the cabin sliding door stops, and that the average labor rate is $60 per work hour. Required parts will cost approximately $25 per helicopter. Based on these figures, the total cost impact of the AD on U.S. operators is estimated to be $3480.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11881 (65 FR 52012, August 28, 2000), and by adding a new airworthiness directive (AD), Amendment 39-12524, to read as follows:

2001-24-08 Eurocopter France: Amendment 39-12524. Docket No. 2001-SW-23-AD. Supersedes AD 2000-17-07, Amendment 39-11881, Docket No. 2000-SW-33-AD.

Applicability: Model EC120B helicopters, serial number 1169 and below, with a cabin sliding door rail, part number C533C8102201, C533C8102202, C533C8103201, or C533C8103202, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required within 90 days or before the next flight with the door open, whichever occurs first, unless accomplished previously.

To prevent in-flight loss of a cabin sliding door, impact with the horizontal stabilizer or fenestron tail rotor, and subsequent loss of control of the helicopter, accomplish the following:

(a) Add a stop to the front rail and modify the rear stop of the middle rail in accordance with the Operational Procedure, paragraph 2.B., of Eurocopter France Alert Service Bulletin No. 52A004, Revision 1, dated April 19, 2001.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter with the sliding cabin doors closed or removed to a location where the requirements of this AD can be accomplished.

(d) The modification shall be done in accordance with the Operational Procedure, paragraph 2.B., of Eurocopter France Alert Service Bulletin No. 52A004, Revision 1, dated April 19, 2001. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(e) This amendment becomes effective on January 7, 2002.

Note 3: The subject of this AD is addressed in Direction Generale De L'Aviation Civile (France) AD 2000-285-005(A) R2, dated May 16, 2001.

Issued in Fort Worth, Texas, on November 20, 2001.
Eric Bries,
Acting Manager, Rotorcraft Directorate, Aircraft Certification Service.

[FR Doc. 01-29592 Filed 11-30-01; 8:45 am]

BILLING CODE 4910-13-P